DEPARTMENT OF LABOR

Office of Workers' Compensation Programs

Agency Information Collection Activities; Comment Request; Notice of Termination, Suspension, Reduction, or Increase in Benefit Payment

AGENCY: Division of Coal Mine Workers' Compensation, Office of Workers' Compensation Programs, Department of Labor.

ACTION: Notice.

SUMMARY: The Department of Labor (DOL), as part of its continuing effort to reduce paperwork and respondent burden, conducts a pre-clearance consultation program to provide the general public and Federal agencies with an opportunity to comment on proposed and/or continuing collections of information in accordance with the Paperwork Reduction Act of 1995 (PRA).

DATES: Consideration will be given to all written comments received by September 6, 2022.

ADDRESSES: A copy of this information collection request (ICR) with applicable supporting documentation; including a description of the likely respondents, proposed frequency of response, and estimated total burden may be obtained free by contacting Anjanette Suggs by telephone at 202-354-9660 or by email at suggs.anjanette@dol.gov. Submit written comments about, or requests for a copy of, this ICR by mail or courier to the U.S. Department of Labor, Office of Workers' Compensation Programs, Room S3323, and 200 Constitution Avenue NW, Washington, DC 20210; by email: suggs.anjanette@dol.gov.

FOR FURTHER INFORMATION CONTACT: Contact Anjanette Suggs by telephone at 202-354-9660 or by email at suggs.anjanette@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

This ICR seeks approval under the PRA for an extension of an existing collection Notice of Termination, Suspension, Reduction or Increase in Benefit Payments (CM-908). The Office of Workers' Compensation Programs (OWCP) administers the Black Lung Benefits Act (BLBA), 30 U.S.C. 901 et seq. Coal mine operators, their representatives, or their insurers who have been identified as responsible for paying Black Lung benefits to an eligible miner or an eligible surviving dependent of the miner are called Responsible Operators (RO's). RO's that pay benefits are required to report any change in the benefit amount to the Department of Labor (DOL). The CM-908, when completed and sent to DOL, notifies DOL of the change in the beneficiary's benefit amount and the reason for the change. The BLBA and 20 CFR 725.621 necessitate this information collection. This information collection is currently approved for use through February 28, 2025.

The Department of Labor is particularly interested in comments which:

* evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

Submitted comments will also be a matter of public record for this ICR and posted on the internet, without redaction. The DOL encourages commenters not to include personally identifiable information, confidential business data, or other sensitive statements/information in any comments.

The Department of Labor is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility and clarity of the information to be collected; and

• Minimize the burden of the collection of information on those who are to respond, including through the use of appropriate automated, electronic, mechanical, or other technological collection techniques or other forms of information technology, e.g., permitting electronic submissions of responses.

The Department of Labor seeks approval for the extension of this currently approved information collection to insure that the correct benefits are paid by RO's. If this information were not gathered, there would be no way to insure that black lung beneficiaries who receive benefit payments from RO's are receiving the correct amount of benefits.

Agency: DOL-OWCP-DCMWC.

Type of Review: Revision.

Title of Collection: Notice of Termination, Suspension, Reduction or Increase In Benefit Payment.

Form: Notice of Termination, Suspension, Reduction or Increase In Benefit Payment, CM-908.

OMB Control Number: 1240-0030.

Affected Public: Business or other for profit.

Total Respondents: 6,081.

Total Annual Responses: 6,081.

Average Time per Response: 12 minutes.

Estimated Total Burden Hours: 1,216 hours.

Frequency: On occasion and annually.

Total Burden Cost (capital/startup): $0.

Total Burden Cost (operating/maintenance): $22,155.00.

Authority: 30 U.S.C. and 20 CFR 725.621.

Anjanette Suggs,
Agency Clearance Officer.

[FR Doc. 2022-14284 Filed 7-5-22; 8:45 am]

BILLING CODE 4510-CK-P